DEPARTMENT OF THE INTERIOR

National Park Service

[2253-665]

Notice of Inventory Completion: The University of Toledo, Toledo, OH

AGENCY: National Park Service, Interior.

ACTION: Notice.

SUMMARY: The University of Toledo has completed an inventory of human remains, in consultation with the appropriate Indian tribes, and has determined that there is no cultural affiliation between the remains and any present-day Indian tribe. Representatives of any Indian tribe that believes itself to be culturally affiliated with the human remains may contact The University of Toledo, Office of General Counsel, 2801 W. Bancroft St., Toledo, OH 43606, telephone (419) 530-8412. Disposition of the human remains to the Indian tribes stated below may occur if no additional requestors come forward.

DATES: Representatives of any Indian tribe that believes it has a cultural affiliation with the human remains should contact The University of Toledo at the above-stated address by November 10, 2011.

ADDRESSES: Peter J. Papadimos, Vice President and General Counsel, The University of Toledo, 2801 W. Bancroft St., Toledo, OH 43606, telephone (419) 530-8412.

SUPPLEMENTARY INFORMATION: Notice is here given in accordance with the Native American Graves Protection and Repatriation Act (NAGPRA), 25 U.S.C. 3003, of the completion of an inventory of human remains in the possession of The University of Toledo, Toledo, OH. The human remains were removed from Gard Island, Lake Erie, Monroe County, MI.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by The University of Toledo professional staff in consultation with representatives of the Forest County Potawatomi Community, Wisconsin; Ottawa Tribe of Oklahoma; and the Hannahville Indian Community, Michigan.

History and Description of the Remains

In the mid 1970's and early 1980's, human remains, consisting of bone and skull fragments and teeth, representing a minimum of forty-six individuals were removed from Gard Island in Lake Erie, Monroe County, MI in a series of archeological digs sponsored by The University's Department of Sociology and Anthropology. No known individuals were identified. No associated funerary objects were present.

Determinations Made by The University of Toledo Are That:

• Based on laboratory and field analysis, the human remains are determined to be Native American. The remains are attributed to the Western Basin tradition of early farmers who inhabited the coastline of Lake Erie in and around the 8th Century A.D. and who were either annihilated and/or assimilated by subsequent tribal groups.

• Pursuant to 25 U.S.C. 3001(2), a relationship of shared group identity cannot be reasonably traced between the Native American human remains and any present-day Indian tribe.

• According to final judgments of the Indian Claims Commission, the land from which the Native American human remains were removed is the aboriginal land of the Forest County Potawatomi Community, Wisconsin; Ottawa Tribe of Oklahoma; and the Hannahville Indian Community, Michigan.

• Multiple lines of evidence, including treaties, Acts of Congress, and Executive Orders, indicate that the land from which the Native American human remains were removed is the aboriginal land of the Forest County Potawatomi Community, Wisconsin; Ottawa Tribe of Oklahoma; and the Hannahville Indian Community, Michigan.

• Pursuant to 25 U.S.C. 3001(9), the human remains described in this notice represent the physical remains of forty-six individuals of Native American ancestry.

• Pursuant to 43 CFR 10.11(c)(1), disposition of the human remains is to the twelve Federally recognized tribes in the Michigan Anishinaabek Cultural Preservation and Repatriation Alliance: the Bay Mills Indian Community, Michigan; Grand Traverse Band of Ottawa and Chippewa Indians, Michigan; Hannahville Indian Community, Michigan; Keweenaw Bay Indian Community, Michigan; Lac Vieux Desert Band of Lake Superior Chippewa Indians, Michigan; Little River Band of Ottawa Indians, Michigan; Little Traverse Bay Band of Odawa Indians, Michigan; Match-E-Be-Nash-She-Wish Band of Potawatomi Indians of Michigan; Nottawaseppi Huron Band of Potawatomi, Michigan; Pokagon Band of Potawatomi Indians, Michigan and Indiana; Saginaw Chippewa Indian Tribe of Michigan; and the Sault Ste. Marie Tribe of Chippewa Indians of Michigan (hereinafter referred to as “The Tribes”).

Additional Requestors and Disposition

Representatives of any Indian tribe that believes itself to be culturally affiliated with the human remains or any other Indian tribe that believes it satisfies the criteria in 43 CFR 10.11(c)(1) should contact Peter J. Papadimos, Vice President and General Counsel, The University of Toledo, 2801 W. Bancroft St., Toledo, OH 43605; telephone (419) 530-8412, before November 10, 2011. Disposition of the human remains to The Tribes may proceed after that date if no additional requestors come forward.

The University of Toledo, Toledo, Ohio is responsible for notifying The Tribes that this notice has been published.

Dated: October 3, 2011.
Sherry Hutt,
Manager, National NAGPRA Program.

[FR Doc. 2011-26174 Filed 10-7-11; 8:45 am]

BILLING CODE 4312-50-P